DEPARTMENT OF AGRICULTURE

Food and Nutrition Service

7 CFR Parts 272 and 273

RIN 0584-AE75

Supplemental Nutrition Assistance Program: Requirement for Interstate Data Matching To Prevent Duplicate Issuances

AGENCY: Food and Nutrition Service (FNS), USDA.

ACTION: Interim final rule; delay of effective date.

SUMMARY: The Food and Nutrition Service is delaying the effective date for the interim final rule published in the Federal Register on October 3, 2022, Supplemental Nutrition Assistance Program: Requirement for Interstate Data Matching to Prevent Duplicate Issuances.

DATES:

Effective date: The effective date for the rule published October 3, 2022, at 87 FR 59633 is delayed until December 6, 2022.

Implementation date: The USDA (or Department) is implementing this nationwide NAC matching solution using a phased approach that will allow all State agencies to onboard over a period of 5 years. State agencies must comply with the provisions of this interim final rule no later than October 4, 2027. The implementation date has not changed.

FOR FURTHER INFORMATION CONTACT: Maribelle Balbes, Chief, State Administration Branch, Program Accountability and Administration Division, Supplemental Nutrition Assistance Program, Food and Nutrition Service, USDA, 1320 Braddock Place, 5th Floor, Alexandria, VA 22314, by phone at (703) 605-4271 or via email at SM.FN.SNAPSAB@usda.gov.

SUPPLEMENTARY INFORMATION: The Food and Nutrition Service published the interim final rule, Supplemental Nutrition Assistance Program: Requirement for Interstate Data Matching to Prevent Duplicate Issuances, in the Federal Register at 87 FR 59633 on October 3, 2022. Pursuant to the Congressional Review Act (5 U.S.C. 801 et seq.), the Office of Management and Budget Office of Information and Regulatory Affairs has designated this as a major rule, as defined by 5 U.S.C. 804(2).

The Congressional Review Act (CRA) requires a 60-day delay in the effective date of a major rule from the date of publication in the Federal Register or receipt of the rule by Congress, whichever is later (5 U.S.C. 801(a)(3)(A)). The rule was published on October 3, 2022, and Congress received the interim final rule on October 6, 2022. Therefore, the effective date is extended by four days to December 6, 2022, which is at least 60 days from Congress' receipt of the interim final rule.

For this reason, the Food and Nutrition Service is delaying the effective date of the interim final rule that published October 3, 2022, at 87 FR 59633 until December 6, 2022.

Cynthia Long,
Administrator, Food and Nutrition Service.

[FR Doc. 2022-24433 Filed 11-14-22; 8:45 am]

BILLING CODE 3410-30-P